DEPARTMENT OF TRANSPORTATION

Federal Aviation Administration

14 CFR Part 71

[Airspace Docket No. 97-ASO-18]

RIN 2120-AA66

Realignment and Establishment of VOR Federal Airways; KY and TN

AGENCY: Federal Aviation Administration (FAA), DOT.

ACTION: Final rule.

SUMMARY: This action realigns Federal Airway V-517 in the vicinity of Snowbird, TN, and establishes two Federal airways, V-347 between London, KY, and Hinch Mountain, TN, and V-384 between Livingston, TN, and Volunteer, TN. This action improves navigational routings and enhances service for users, and provides for more efficient handling of air traffic between the Indianapolis and the Atlanta Air Route Traffic Control Centers' (ARTCC) airspace.

EFFECTIVE DATE: 0901 UTC, August 10, 2000.

FOR FURTHER INFORMATION CONTACT: Terry Brown, Airspace and Rules Division, ATA-400, Office of Air Traffic Airspace Management, Federal Aviation Administration, 800 Independence Avenue, SW., Washington, DC 20591; telephone: (202) 267-8783.

SUPPLEMENTARY INFORMATION:

History

On March 8, 1998, the FAA proposed to amend 14 CFR part 71 (part 71) to realign Federal Airway V-517 in the vicinity of Snowbird, TN, and to establish two Federal Airways, V-347 between London, KY, and Hinch Mountain, TN, and V-384 between Livingston, TN, and Volunteer, TN (64 FR 10962).

Interested parties were invited to participate in this rulemaking proceeding by submitting comments. No comments to the proposal were received. Except for editorial changes, this rule is the same as that proposed in the notice.

The Rule

This amendment to part 71 realigns V-517 in the vicinity of Snowbird, TN, by changing the origination point of the airway from the Volunteer, TN, Very High Frequency Omnidirectional Range/Tactical Air Navigation (VORTAC) station, to the Snowbird, TN, VORTAC. Currently, V-517 extends from Volunteer, through the Miami Intersection, to London, KY, which is not a direct route. However, a direct route between Volunteer and London does exist via V-97. On the other hand, there is currently no published direct route between Snowbird and London. This amendment enhances the flow of air traffic by realigning V-517 so as to provide a direct route between Snowbird and London. This change better accommodates northwest-southeast-bound traffic in that area.

This rule also establishes two Federal airways in the Kentucky-Tennessee area: V-347 between London, KY, and Hinch Mountain, TN; and V-384 between Livingston, TN, and Volunteer, TN. These new airways provide direct routes between the affected navigation facilities which match known traffic flows, simplify flight plan filing, and reduce air traffic control communications requirements, thus resulting in enhanced service for users. These additional airways also provide air traffic controllers with more nonradar routes between Indianapolis ARTCC and Atlanta ARTCC airspace, thereby facilitating the efficient handling of nonradar-routed traffic between the two ARTCC's.

Domestic VOR Federal airways are published in paragraph 6010(a) of FAA Order 7400.9G, dated September 1, 1999, and effective September 16, 1999, which is incorporated by reference in 14 CFR 71.1. The airways listed in this document will be published subsequently in the Order.

The FAA has determined that this regulation only involves an established body of technical regulations for which frequent and routine amendments are necessary to keep them operationally current. Therefore this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

List of Subjects in 14 CFR Part 71

Airspace, Incorporation by reference, Navigation (air).

Adoption of the Amendment

In consideration of the foregoing, the Federal Aviation Administration amends 14 CFR part 71 as follows:

PART 71—DESIGNATION OF CLASS A, CLASS B, CLASS C, CLASS D, AND CLASS E AIRSPACE AREAS; AIRWAYS; ROUTES; AND REPORTING POINTS

1. The authority citation for part 71 continues to read as follows:

Authority: 49 U.S.C. 106(g), 40103, 40113, 40120; E.O. 10854, 24 FR 9565, 3 CFR, 1959-1963 Comp., p.389.

§ 71.1 [Amended]

2. The incorporation by reference in 14 CFR 71.1 of the Federal Aviation Administration Order 7400.9G, Airspace Designations and Reporting Points, dated September 1, 1999, and effective September 16, 1999, is amended as follows:

* * * * *

Paragraph 6010(a)—Domestic VOR Federal Airways

V-347 [New]

From London, KY; to Hinch Mountain, TN.

* * * * *

V-384 [New]

From Livingston, TN; INT Livingston 121° and Volunteer, TN, 307° radials; to Volunteer.

* * * * *

V-517 [Revised]

From Snowbird, TN; INT Snowbird 329° and London, KY, 141° radials; London; INT London 004° and Falmouth, KY, 164° radials; Falmouth; Cincinnati, OH; INT Cincinnati 336° and Richmond, IN, 190° radials; Richmond; to Dayton, OH.

* * * * *

Issued in Washington, DC, on May 25, 2000.
Reginald C. Matthews,
Manager, Airspace and Rules Division.

[FR Doc. 00-13750 Filed 6-1-00; 8:45 am]

BILLING CODE 4910-13-U